ENVIRONMENTAL PROTECTION AGENCY

40 CFR Part 52

[GU122-NBK; FRL-7888-4]

Revisions to the Territory of Guam State Implementation Plan, Update to Materials Incorporated by Reference

Correction

In rule document 05-7806 beginning on page 20473 in the issue of Wednesday, April 20, 2005, make the following correction:

On page 20476, the table is corrected in part to read as follows:

Table 52.2670.—EPA Approved Territory of Guam Regulations
State citation | Title/subject | Effective date | EPA approval date | Explanation
* * * * * * *
Chapter 13.1 | Control of Sulfur Dioxide Emissions | 08/24/1979 | 05/12/1981 46 FR 26303 | For All Sources except Tanguisson Power Plant.
Chapter 13.1 | Addendum to 13.1 | 01/28/1980 | 05/12/1981 46 FR 26303 | Compliance Order for Inductance.
* * * * * * *

[FR Doc. C5-7806 Filed 4-25-05; 8:45 am]

BILLING CODE 1505-01-D